DEPARTMENT OF TRANSPORTATION

Surface Transportation Board

[STB Docket No. AB-448 (Sub-No. 2X)]

SF&L Railway, Inc.—Abandonment Exemption—in Hancock, McDonough, Fulton and Peoria Counties, IL

On September 3, 2002, SF&L Railway, Inc. (SF&L) filed with the Surface Transportation Board (Board) a petition under 49 U.S.C. 10502 for exemption from the provisions of 49 U.S.C. 10903 to abandon its entire line of railroad extending between milepost 194.5 at La Harpe and milepost 123.0 at Peoria, a distance of approximately 71.5 miles, in Hancock, McDonough, Fulton and Peoria Counties, IL. The line traverses United States Postal Zip Codes 61420, 61475, 61438, 61422, 61459, 61477, 61427, 61520, 61533, and 61547, serving the intermediate points of Blandinsville, Sciota, Good Hope, Bushnell, New Philadelphia, Smithfield, Cuba, Canton, Glasford, and Mapleton.

The line does not contain federally granted rights-of-way. Any documentation in SF&L's possession will be made available promptly to those requesting it.

In this proceeding, SF&L is proposing to abandon a line that constitutes its entire rail system. When issuing abandonment authority for a railroad line that constitutes the carrier's entire system, the Board does not impose labor protection, except in specifically enumerated circumstances. See Northampton and Bath R. Co.—Abandonment, 354 I.C.C. 784, 785-86 (1978) (Northampton). Therefore, if the Board grants the petition for exemption, in the absence of a showing that one or more of the exceptions articulated in Northampton are present, no labor protective conditions will be imposed.

By issuance of this notice, the Board is instituting an exemption proceeding pursuant to 49 U.S.C. 10502(b). A final decision will be issued by December 20, 2002.

Any offer of financial assistance (OFA) under 49 CFR 1152.27(b)(2) will be due no later than 10 days after service of a decision granting the petition for exemption. Each offer must be accompanied by a $1,100 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 15, 2002. Each trail use request must be accompanied by a $150 filing fee. See 49 CFR 1002.2(f)(27).

All filings in response to this notice must refer to STB Docket No. AB-448 (Sub-No.2X) and must be sent to: (1) Surface Transportation Board, 1925 K Street NW., Washington, DC 20423-0001, and (2) Fritz R. Kahn, 1920 N Street NW., 8th Floor, Washington, DC 20036-1601. Replies to the SF&L petition are due on or before October 15, 2002.

Persons seeking further information concerning abandonment procedures may contact the Board's Office of Public Services at (202) 565-1592 or refer to the full abandonment or discontinuance regulations at 49 CFR part 1152. Questions concerning environmental issues may be directed to the Board's Section of Environmental Analysis (SEA) at (202) 565-1552. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at “www.stb.dot.gov.”

Decided: September 16, 2002.
By the Board, David M. Konschnik, Director, Office of Proceedings.
Vernon A. Williams,
Secretary.

[FR Doc. 02-24097 Filed 9-20-02; 8:45 am]

BILLING CODE 4915-00-P